SECURITIES AND EXCHANGE COMMISSION

[File No. 500-1]

In the Matter of Geotec, Inc., InnoPet Brands Corp., Marbledge Group, Inc. (n/k/a AR Growth Finance Corp.), Phlo Corp., Pliant Systems, Inc., Southeast Banking Corp., TNX Television Holdings, Inc., and WestPoint Stevens, Inc.; Order of Suspension of Trading

August 10, 2010.

It appears to the Securities and Exchange Commission that there is a lack of current and accurate information concerning the securities of Geotec, Inc. because it has not filed any periodic reports since the period ended March 31, 2007.

It appears to the Securities and Exchange Commission that there is a lack of current and accurate information concerning the securities of InnoPet Brands Corp. because it has not filed any periodic reports since the period ended March 31, 1998.

It appears to the Securities and Exchange Commission that there is a lack of current and accurate information concerning the securities of Marbledge Group, Inc. (n/k/a AR Growth Finance Corp.) because it has not filed any periodic reports since the period ended November 30, 1996.

It appears to the Securities and Exchange Commission that there is a lack of current and accurate information concerning the securities of Phlo Corp. because it has not filed any periodic reports since the period ended December 31, 2007.

It appears to the Securities and Exchange Commission that there is a lack of current and accurate information concerning the securities of Pliant Systems, Inc. because it has not filed any periodic reports since the period ended June 30, 2001.

It appears to the Securities and Exchange Commission that there is a lack of current and accurate information concerning the securities of Southeast Banking Corp. because it has not filed any periodic reports since the period ended June 30, 1991.

It appears to the Securities and Exchange Commission that there is a lack of current and accurate information concerning the securities of TNX Television Holdings, Inc. because it has not filed any periodic reports since the period ended September 30, 2004.

It appears to the Securities and Exchange Commission that there is a lack of current and accurate information concerning the securities of WestPoint Stevens, Inc. because it has not filed any periodic reports since the period ended September 30, 2004.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 10, 2010, through 11:59 p.m. EDT on August 23, 2010.

By the Commission.
Jill M. Peterson,
Assistant Secretary.

[FR Doc. 2010-20001 Filed 8-10-10; 4:15 pm]

BILLING CODE 8010-01-P